FEDERAL MARITIME COMMISSION

Notice of Release of Federal Maritime Commission's FY 2022 Service Contract Inventory Analysis

AGENCY: Federal Maritime Commission.

ACTION: Notice.

SUMMARY: The Federal Maritime Commission (Commission) is publishing this notice to advise the public of the availability of its FY 2022 Service Contract Inventory Analysis. The FY 2022 Service Contract Inventory Analysis includes Scope, Methodology, Findings, Actions Taken or Planned, and Accountable Officials.

DATES: The inventory is available on the Commission's website as of June 24, 2024.

FOR FURTHER INFORMATION CONTACT: Katona Bryan-Wade, Director of the Office of Management Services; Phone: (202) 523-5900; Email: omsmaritime@fmc.gov.

SUPPLEMENTARY INFORMATION: Acting in compliance with sec. 743 of Division C of the Consolidated Appropriations Act 2010, the Commission is publishing this notice to advise the public of the availability of its FY 2022 Service Contract Inventory Analysis. The FY 2022 Service Contract Inventory Analysis includes Scope, Methodology, Findings, Actions Taken or Planned, and Accountable Officials.

Objectives, and Agency Findings

This analysis was developed in accordance with guidance issued by the Office of Management and Budget (OMB), the Office of Federal Procurement Policy (OFPP), and in accordance with FAR subpart 4.17—Service Contracts Inventory. The Federal Maritime Commission has posted its FY 2022 Service Contract Inventory Analysis at the following link: https://www.fmc.gov/about/strategies-budgets-and-performance/service-contract-inventory-analysis/.

By the Commission.
David Eng,
Secretary.

[FR Doc. 2024-15585 Filed 7-15-24; 8:45 am]

BILLING CODE 6730-02-P